DEPARTMENT OF DEFENSE

Department of the Army

Final Environmental Impact Statement (EIS) in Support of the Real Property Master Plan and Real Property Exchange for Camp Parks, Dublin, CA

AGENCY: Department of the Army, DoD.

ACTION: Notice of Availability.

SUMMARY: U.S. Army Garrison, Camp Parks, with cooperation from the National Aeronautics and Space Administration (NASA), has prepared a Final EIS to evaluate alternatives for future development as part of a Real Property Master Plan (RPMP) at Camp Parks. Alternatives evaluated in the Final EIS include changes to land use for construction and training, and a Real Property Exchange (RPX) between Camp Parks and a developer in the surrounding community. The RPMP presents a land-use redevelopment plan for the Camp Parks cantonment area, with approximately 180 acres being transferred out of Federal ownership (approximately 171.5 acres is controlled by the U.S. Army and 8.5 acres is controlled by NASA).

DATES: The waiting period for the Final EIS will end 30 days after publication of an NOA in the Federal Register by the Environmental Protection Agency.

ADDRESSES: To request a copy of the Final EIS, contact: U.S. Army Garrison Camp Parks, Environmental Office, Building 791 5th Street, Dublin, CA 94568-5201.

FOR FURTHER INFORMATION CONTACT: Army property: Mr. Paul, (925) 875-4682, or e-mail at Paul.kot@usar.army.mil. NASA property: Dr. Ann Clarke, (650) 604-2350, or e-mail Ann.Clarke@nasa.gov.

SUPPLEMENTARY INFORMATION: The FEIS evaluates three alternatives to support the redevelopment and land exchange of Camp Parks: (1) No Action Alternative—under which there would be no comprehensive plan or vision for overall Camp Parks development, but redevelopment would occur ad hoc as funds become available, and facilities would remain largely unchanged; (2) Slow Growth Alternative—under which Camp Parks would retain all its land holdings and gradually move toward developing facilities and activities identified in the RPMP with the southern cantonment area remaining an opportunity site for future planning; and (3) Accelerated Modernization Alternative (Preferred Alternative and the Proposed Action)—under which the construction of new facilities and ranges included in the RPMP would be partially funded using the value of the land exchange (180 acres of the southern cantonment area) from Federal to private ownership. The remainder of RPMP construction at Camp Parks would be programmed as military construction projects. NASA's in holding would be sold and proceeds of the sale would be used at its NASA-Ames Research Center, Moffett Field, California.

Camp Parks has prepared a RPMP that proposes a program for revitalizing the installation infrastructure and accelerating facility replacements. The RPMP proposes approximately 1.3 million square feet of new buildings/structures and approximately 370,000 square feet of parking area. The majority of the existing structures on Camp Parks were intended to be temporary when originally constructed and are considered inadequate for today's military personnel and lifestyles. The RPMP proposes the modernization of facilities to meet the troop training requirements and amenities that are consistent with the private sector.

The Final EIS concludes that the No Action Alternative is not reasonable based on the antiquated infrastructure and buildings requiring excessive maintenance. The Final EIS also concludes that the Slow Growth Alternative (the incremental modernization using the existing cantonment area) is not reasonable since facility/activity upgrades would be prioritized and dependent on annual funding from Military Construction Army Reserve (MCAR) allocations and project proponents. MCAR funds are appropriated on an availability basis, which is not a regular or consistent occurrence.

The Army's Preferred Alternative is the accelerated modernization of a redeveloped and compacted cantonment area using the value of the land exchange to partially fund RPMP construction activities. This alternative allows for a quick implementation of the RPMP, while providing the necessary facilities and infrastructure upgrades for adequate training of military personnel in the Bay Area.

Potential impacts from this action would include loss of non-native grasslands and modification of wetlands; loss of special-status species; traffic congestion at the Dublin Boulevard/Dougherty Road intersection; and air quality, socioeconomic, and visual impacts. Proposed mitigation measures are identified to reduce the severity and extent of potential impacts. A copy of the Final EIS is available at http://www.liggett.army.mil.

Dated: August 14, 2009.
Addison D. Davis, IV,
Deputy Assistant Secretary of the Army (Environment, Safety and Occupational Health).

[FR Doc. E9-20120 Filed 8-20-09; 8:45 am]

BILLING CODE M